DEPARTMENT OF THE INTERIOR

Bureau of Land Management

[UT-930-1220-EB]

Campground Fees for BLM-Administered Campgrounds in Utah

AGENCY: Bureau of Land Management, Interior.

ACTION: Supplementary rules.

SUMMARY: Notice is hereby given that effective September 5, 2000, the Bureau of Land Management (BLM) is establishing recreation use fees for campgrounds and picnic grounds that did not have existing supplementary rules related to recreation use fees. BLM is also reaffirming existing supplementary rules for BLM-administered campgrounds and picnic grounds throughout Utah. We are taking this action to authorize the collection of fees from those who use the campgrounds. This action has the effect of requiring users to pay fees for the use of certain designated campgrounds and picnic grounds.

FOR FURTHER INFORMATION CONTACT: Suzanne Garcia, BLM Utah State Office (UT-934), 324 South State Street, Suite 301, Salt Lake City, Utah 84111 (801) 539-4223.

SUPPLEMENTARY INFORMATION: The authority for these Supplementary Rules is contained in the Code of Federal Regulations, Title 43, Sec. 8365.1-6, Supplementary Rules. Violation of any supplementary rule by a member of the public, except for the provisions of Sec. 8365.1-6, are punishable by a fine not to exceed $1,000 and/or imprisonment not to exceed 12 months. Federal Regulations, Title 43, Sec. 8360.0-7 violations of supplementary rules authorized by Sec. 8365.1-6 are punishable in the same manner. This supplementary rule authorizes the establishment and re-affirmation of recreation fees at all existing fee campgrounds on BLM administered lands in Utah. The following campgrounds and picnic areas are subject to recreation fees: Salt Lake Field Office: Simpson Springs, Clover Springs, Birch Creek, Little Creek Vernal Field Office: Bridge Hollow, Indian Crossing Fillmore Field Office: Oasis, Sand Mountain, White Sands, Jericho Picnic Area Hanksville Field Station: Starr Spring, Lonesome Beaver, McMillan Spring Moab Field Office: Spring, Hatch Point, Wind Whistle, Hals Canyon, Goose Island, Negro Bill, Drinks Canyon, Oak Grove, Big Bend, Upper Big Bend, Hittle Bottom, Dewey Bridge, Jaycee Park, Goldbar, Kings Bottom, Moonflower, Hunter Canyon, Echo, Sand Flats Recreation Area Campsites, Fisher Tower, Kens Lake, Williams Bottom, Westwater Ranger Station, Highway 313 Campsites Cedar City Field Office: Calf Creek Price Field Office: Price Canyon, San Raphael Bridge Recreation Site, Cleveland Lloyd Dinosaur Quarry Kanab Field Office: White House, Ponderosa Grove Grand Staircase-Escalante National Monument: Deer Creek, Calf Creek St. George Field Office: Red Cliffs, Baker Dam Monticello Field Office: Sand Island.

Sally Wisely,
State Director, Utah.

[FR Doc. 00-19618 Filed 9-1-00; 8:45 am]

BILLING CODE 4310-DQ-M